DEPARTMENT OF HEALTH AND HUMAN SERVICES

Agency for Healthcare Research and Quality

Agency Information Collection Activities; Proposed Collection; Comment Request

AGENCY: Agency for Healthcare Research and Quality, Department of Health and Human Services.

ACTION: Notice

SUMMARY: This notice announces the intention of the Agency for Healthcare Research and Quality (AHRQ) to request that the Office of Management and Budget (OMB) allow the proposed information collection project: “Chartering Value Exchanges for Value-driven Health Care.” The information collection will take the form of narrative responses to semiannual Requests for Proposals for participation in a learning network of model multi-stakeholder community health care collaboratives operated to measure, report, and improve the quality and cost of available healthcare. In accordance with the Paperwork Reduction Act of 1995, Public Law 104-13 (44 U.S.C. 3506(c)(2)(A)), AHRQ invites the public to comment on this proposed information collection.

DATES: Comments on this notice must be received by July 9, 2007.

ADDRESSES: Written comments should be submitted to: Doris Lefkowitz, Reports Clearance Officer, AHRQ, 540 Gaither Road, Room # 5036, Rockville, MD 20850.

Copies of the proposed collection plans, application form, and specific details on the estimated burden can be obtained from AHRQ's Reports Clearance Officer.

FOR FURTHER INFORMATION CONTACT: Doris Lefkowitz, AHRQ, Reports Clearance Officer, (301) 427-1477.

SUPPLEMENTARY INFORMATION:

Proposed Project

“Chartering Value Exchanges for Value-driven Healthcare”

This project proposes to twice annually post a public call for parties interested in becoming chartered as Value Exchanges for Value-driven Healthcare, described in the Background Section below. Anticipated benefits of being a chartered Value Exchange include (1) participation in an AHRQ-managed Learning Network and (2) eligibility to request Medicare-inclusive multi-payer patient de-identified individual physician-level performance measurement results.

Background

The Secretary of Health and Human Services has created and is implementing a Value-driven Healthcare Initiative to enhance person and population-centered care by improving the quality of healthcare services and reducing healthcare costs. Related HHS goals and objectives reflect the President's Executive Order and encompass (1) promotion of the establishment of health information technology interoperability standards for exchanging price and quality healthcare data; (2) promotion of the availability and use of transparent, nationally endorsed, consensus-derived quality measures; (3) promotion of the availability and use of transparent, nationally endorsed, consensus-derived measures of price/cost; and, (4) promotion of the use of provider and consumer incentives for high quality and cost efficient healthcare.

This Initiative's design is based on three fundamental principles. The first is that at its core, healthcare is “local”—provided in uniquely constituted cultural and market-based environments. As such, improving the value of healthcare requires a critical mass of community stakeholders (public and private purchasers, health plans, providers, and consumers), as well as other relevant community entities (e.g., local information exchange organizations, State data organizations) investing their time and resources toward shared cost and quality improvement goals. We refer to such representative quality improvement community organizations as local multi-stakeholder collaboratives. Scattered across the country there are community collaboratives in various stages of development ranging from mature multi-stakeholder collaboratives to communities where only a limited number of organizations within a single stakeholder group or a limited number of stakeholder groups are working together.

The second principle is that broad access to accurate, meaningful information will improve the value of healthcare services by (1) stimulating provider improvement, (2) engaging consumers in provider selection and treatment choices, and (3) enabling purchasers to align consumer and provider incentives. Generating the information needed to accomplish this is maximized when performance measures can be calculated based on all payer data.

The third principle is that establishing a nation-wide learning network will foster market-based healthcare reform. Learning networks are an evidence-based organizational mechanism to achieve rapid identification, dissemination and adoption of best practices. They are comprised of individuals or groups focused on common broad goals.

Based on the above, AHRQ plans to establish a nation-wide learning network of mature community-based multi-stakeholder healthcare quality improvement collaboratives. Goals of the Learning Network include facilitating collaborative production of public reports, fostering pay for performance, fostering consumer financial incentives, and ultimately, improving quality. AHRQ will issue semi-annual public Requests for Proposals (RFP) and conduct a selection process immediately thereafter to identify and charter mature multi-stakeholder collaboratives as Value Exchanges. To be eligible, interested parties must first be recognized by HHS Secretary Michael O. Leavitt as a Community Leader for Value-driven Healthcare.

For additional information on Community Leader recognition, see http://www.hhs.gov/transparency/communities/communityleaders/communities.html.

Method of Collection

Each RFP will be posted on the AHRQ public Web site (www.ahrg.gov) with a link to the AHRQ site on the OS transparency Web site as well. The RFP instructions will direct interested parties to electronically submit narrative information (maximum 3000 words) to AHRQ that describes their capacity or plans to develop their capacity to do each of the following:

A. Facilitate collection of provider-level measures across the six performance domains identified by the Institute of Medicine (IOM) (safety, timeliness, effectiveness, efficiency, equitableness, patient-centeredness).

B. Use (or promote the use of) transparent, nationally endorsed, consensus-derived performance measures and consumers' cost for public/consumer reporting.

C. Use (or promote the use of) transparent, nationally endorsed, consensus-derived performance measures to reward and foster better performance.

D. Use (or promote the use of) transparent, nationally endorsed, consensus-derived performance measures for improvement by directly informing providers of their results.

E. Foster collaboration across multiple stakeholders (public and, private purchasers, health plans, providers, and consumers), as well as other relevant community entities (e.g., local information exchange organizations, State data organizations) in the community of interest and serve as a hub for sharing information and dialogue.

F. Promote the use of interoperable health information technologies for measurement as appropriate and collaborate with health information sharing processes and in the adoption of these technologies.

G. Support knowledge transfer—maintain transparent processes and share lessons learned.

H. Conduct ongoing evaluation and improvement of efforts.

At a minimum, successful applicants will demonstrate the following:

A1. For those conducting or overseeing measurement/auditing and aggregation of data across multiple payers, the ability to do so.

A2. For those receiving already aggregated data and calculated performance results from a source (e.g., national aggregators), the ability to effectively implement the use of these results.

B. The ability to manage collaborative processes that engage all critical stakeholders.

C. Organizational capacity to meet A.1 or A.2 and B above. At a minimum the following organizational characteristics or capacities will be required:

• Non-profit status.

• Staff/consultant arrangements to provide needed expertise.

• History of raising funds or in-kind support uom multiple stakeholders.

• Ability to manage collaborative, multi-stakeholder projects and finances.

• Ability to track progress in meeting individual collaborative goals, which may include, for example, producing public reports, or fostering pay for performance or consumer incentives.

The request for proposals will be open for two months.

A review committee will be assembled and have the following composition:

• Three experts representing institutional healthcare purchaser stakeholder perspectives.

• Three experts representing health plan stakeholder perspectives.

• Three experts representing individual consumer stakeholder perspectives.

• Three experts representing providers with at least two of the providers being physicians.

• AHRQ staff experienced in working with community collaboratives.

Proposals will be reviewed by review teams comprised of at least one representative from each stakeholder group listed above and at least one AHRQ staff person. All proposals will be reviewed in the 6 weeks following the closing of the application period.

Estimated Annual Respondent Burden

Exhibit 1.—Estimate of Cost Burden to Respondents
Data collection effort | Number of estimated respondents | Estimated time per respondent in hours | Estimated total burden hours | Average hourly wage rate | Estimated annual cost burden to respondents
Draft narrative response to RFP by Collaborative Manager | 50 | 8 | 400 | $34.67 | $13,868
Narrative reviews by 2 members of Collaborative executive committee | 100 | 1 | 100 | 57.90 | 5,790
Narrative revisions by Collaborative Manager | 50 | 8 | 400 | 34.67 | 13,868
Assembly of narrative with any supporting documents by Collaborative Assistant | 50 | 2 | 100 | 12.58 | 1,258
Total | 250 |  | 1,000 |  | 34,784

This information collection will not impose a cost burden on the respondent beyond that associated with the above estimates of the time needed to provide the application-requested information, No additional costs to respondents are anticipated, e.g., for capital equipment, software, etc.

Estimated Costs to the Federal Government

The total cost to the government for its proposal review activity is estimated to be $500,000 annually.

Request for Comments

In accordance with the above-cited legislation, comments on the AHRQ's information collection are requested with regard to any of the following: (a) Whether the proposed collection of information is necessary for the proper performance of health care improvement and information dissemination functions of AHRQ, including whether the information requested will have practical utility; (b) the accuracy of AHRQ's estimate of burden (including hours and costs) of the proposed collection(s) of information; (c) ways to enhance the quality, utility, and clarity of information to be collected; and, (d) ways to minimize the burden of the collection of information upon the respondents, including the use of automated collection techniques or other forms of information technology.

Comments submitted in response to this notice will be summarized and included in the request for OMB approval of the proposed information collection. All comments will become a matter of public record.

Dated: May 1, 2007
Carolyn M. Clancy,
Director.

[FR Doc. 07-2268 Filed 5-7-07: 8:45 am]

BILLING CODE 4160-90-M